DEPARTMENT OF ENERGY

Federal Energy Regulatory Commission

[Docket No. RP02-362-000]

PG&E Gas Transmission, Northwest Corporation; Notice of Proposed Changes in FERC Gas Tariff

June 12, 2002.

Take notice that on June 6, 2002, PG&E Gas Transmission, Northwest Corporation (GTN) tendered for filing as part of its FERC Gas Tariff, First Revised Volume No. 1-A, the following tariff sheets to become effective July 6, 2002:

Sixth Revised Sheet No. 68

Second Revised Sheet No. 68A

First Revised Sheet No. 68B

Fourth Revised Sheet No. 69

GTN states that the purpose of this filing is to establish the procedures so GTN may enter into pre-arranged service agreements with any party for available unsubscribed capacity or capacity that becomes available and is not subject to a right of first refusal.

GTN states that copies of its filing has been served upon its customers and interested state regulatory commissions. Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15417 Filed 6-18-02; 8:45 am]

BILLING CODE 6717-01-P